NEIGHBORHOOD REINVESTMENT CORPORATION

Regular Board of Directors Meeting; Sunshine Act

TIME AND DATE: 2:00 p.m., Monday, March 30, 2015.

PLACE: NeighborWorks America—Gramlich Boardroom, 999 North Capitol Street NE., Washington, DC 20002.

STATUS: Open (with the exception of Executive Session).

CONTACT PERSON: Jeffrey Bryson, General Counsel/Secretary, (202) 760-4101; jbryson@nw.org.

AGENDA:

I. CALL TO ORDER

II. Approval of Minutes

III. Executive Session: Report from CEO

IV. Executive Session: Compensation Review

V. Audio Visual Contract Decision

VI. Sustainable Homeownership Evaluation

VII. Restart Training IT Project Development

VIII. Financial Report

IX. Management Updates

X. Adjournment

Jeffrey T. Bryson,
EVP & General Counsel/Corporate Secretary.

[FR Doc. 2015-06901 Filed 3-23-15; 11:15 am]

BILLING CODE 7570-01-P